DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intent of the National Agricultural Statistics Service (NASS) to request revision and extension of a currently approved information collection to comply with a mandate in the 2014 Farm Bill. (. . . the Secretary of Agriculture should recognize the threat feral swine pose to the domestic swine population and the entire agriculture industry . . .).

DATES: Comments on this notice must be received by October 23, 2018 to be assured of consideration.

ADDRESSES: You may submit comments, identified by docket number 0535-0256, by any of the following methods:

• Email: ombofficer@nass.usda.gov. Include docket number above in the subject line of the message.

• Efax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: Feral Swine Survey.

OMB Control Number: 0535-0256.

Type of Request: Intent to Seek Approval to Revise and Extend an Information Collection for three Years.

Abstract: On Feb 3, 1999, Executive Order 13112 was signed, establishing the National Invasive Species Council. This Executive Order requires that a Council of Departments dealing with invasive species be created. This Order was enhanced by Executive Order 13751 which was signed on Dec. 5, 2016. Currently there are 16 Departments and Agencies on the Council. https://www.doi.gov/invasivespecies/about-nisc.

On April 2, 2014 the USDA kicked off a national effort to reduce the devastating damage caused by feral swine. In 2015, the benchmark survey was conducted in 11 States (Alabama, Arkansas, California, Florida, Georgia, Louisiana, Mississippi, Missouri, North Carolina, South Carolina, and Texas) to measure the amount of damage feral hogs caused to specific crops in these states. The target population within these states consisted of farm operations who have historically produced one or more of the following crops: corn, soybeans, wheat, rice, peanuts, or sorghum (Texas only). The results of this benchmark survey shows that in the 11 surveyed States, there was damage to an estimated $190 million in crops for the six target crops. The published findings from this benchmark survey can be found at http://www.sciencedirect.com/science/article/pii/S0261219416301557.

In 2017, this survey was conducted in the following 13 States: Alabama, Arkansas, California, Florida, Georgia, Louisiana, Mississippi, Missouri, North Carolina, Oklahoma, South Carolina, Tennessee, and Texas, to measure the damage to livestock that is associated with the presence of feral swine. These States were chosen because they had high feral swine densities and a significant presence of cattle, hogs, sheep and/or goats. The findings from this survey are scheduled to be submitted for publication around the end of September 2018.

In 2019, the survey will be conducted in 12 States: Alabama, Arkansas, California, Florida, Georgia, Louisiana, Mississippi, Missouri, North Carolina, Oklahoma, South Carolina, and Texas. The operators in 11 of the States will be selected from operations that recently produced hay/haylage, tree nuts, melons, sugar cane, sweet potatoes, or cotton. In California, operators will be selected from operations that produced hay/haylage, tree nuts, grapes, sod, carrots, lettuce, or strawberries.

The Animal and Plant Health Inspection Service (APHIS), Wildlife Services' (WS) National Wildlife Research Center (NWRC) is the only Federal research organization devoted exclusively to resolving conflicts between people and wildlife through the development of effective, selective, and socially responsible methods, tools, and techniques. As increased urbanization leads to a loss of traditional wildlife habitat, the potential for conflicts between people and wildlife increases. Such conflicts can take many forms, including property and natural resource damage, human health and safety concerns, and disease transmission among wildlife, livestock, and humans.

Free-ranging populations of feral swine exist in at least 35 states, and the nationwide population is estimated at approximately 5 million animals. Feral swine damage pastures, agricultural crops, lawns, landscaping, and natural areas due to feeding, rooting, wallowing, grazing, and trampling activities. Feral swine are reservoirs of many diseases and act as a host to parasites that can negatively impact agricultural animals, especially swine.

Authority: These data will be collected under the authority of 7 U.S.C. 2204(a). The eradication of feral swine is authorized by the Animal Health Protection Act (Title 7 U.S.C. 8301 et seq.) and the 2014 Farmbill. The $20 million program aims to help states deal with a rapidly expanding population of invasive feral swine.

Individually identifiable data collected under this authority are governed by Section 1770 of the Food Security Act of 1985, as amended, 7 U.S.C. 2276, which requires USDA to afford strict confidentiality to non-aggregated data provided by respondents. This Notice is submitted in accordance with the Paperwork Reduction Act of 1995 Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Reporting burden for this collection of information is estimated to average 45 minutes per response. This was determined by our Survey Methodologists, who compared the length and difficulty of the questions with similar surveys. They also took into account the projected number of farmers who will skip some sections of the questionnaire due to the presence or absence of damage due to feral swine. Burden is based on an estimated minimum response rate of 80%. On similar types of surveys and through the use of a mail questionnaire and telephone follow-up to non-respondents NASS has been able to contact and collect some data from approximately 80% of the target sample. After removing the out of business operations and those with no items of interest we hope to have at least a 65 to 70% usable response rate.

NASS will be utilizing several pieces of publicity and informational materials to encourage respondents to participate in this important survey. NASS will conduct the survey initially by mail with phone follow-up for non-response.

Respondents: Farm Operators.

Estimated Annual Number of Respondents: 15,000.

Estimated Total Annual Burden on Respondents: 11,600 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, August 8, 2018.
Kevin L. Barnes,
Associate Administrator.

[FR Doc. 2018-18316 Filed 8-23-18; 8:45 am]

BILLING CODE 3410-20-P